DEPARTMENT OF TRANSPORTATION

Maritime Administration

[Docket No. MARAD-2023-0029]

Request for Comments on the Renewal of a Previously Approved Information Collection: Capital Construction Fund and Exhibits

AGENCY: Maritime Administration, DOT.

ACTION: 60-Day Federal Register notice.

SUMMARY: The Maritime Administration (MARAD) invites public comments on our intention to request the Office of Management and Budget (OMB) approval to renew an information collection in accordance with the Paperwork Reduction Act of 1995. The information collected in the proposed collection OMB 2133-0027 (Capital Construction Fund and Exhibits) is necessary for MARAD to determine an applicant's eligibility to enter a Capital Construction Fund (CCF) Agreement, and their compliance with the requirements of this program. This collection is being revised to include additional respondents, responses, and burden hours, due to the recent approval of the Defense Authorization Act of 2023 expanding the current pool of eligible CCF program participants. The Paperwork Reduction Act of 1995 requires that we publish this notice in the Federal Register to obtain comments from the public and affected agencies.

DATES: Comments must be submitted on or before April 14, 2023.

ADDRESSES: You may submit comments identified by Docket No. MARAD-2023-0029 through one of the following methods:

• Federal eRulemaking Portal: www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: Daniel Ladd, Office of Financial Approvals, by mail at U.S. Department of Transportation, 1200 New Jersey Avenue SE, Room W23-322, Washington, DC 20590, by email at daniel.ladd@dot.gov, or by telephone at (202) 366-1859.

SUPPLEMENTARY INFORMATION:

Title: Capital Construction Fund and Exhibits.

OMB Control Number: 2133-0027.

Type of Request: Renewal of a previously approved information collection.

Abstract: This information collection consists of an application for a Capital Construction Fund (CCF) agreement under 46 U.S.C. chapter 535 and annual submissions of appropriate schedules and exhibits. The Capital Construction Fund is a tax-deferred ship construction fund that was created to assist owners and operators of U.S.-flag vessels in accumulating the large amount of capital necessary for the modernization and expansion of the U.S. merchant marine. The program encourages construction, reconstruction, or acquisition of vessels through the deferment of Federal income taxes on certain deposits of money or other property placed into a CCF.

Respondents: U.S. citizens who own or lease one or more eligible vessels and who have or desire to establish a program to provide for the acquisition, construction, or reconstruction of a qualified vessel.

Affected Public: Individuals and businesses.

Estimated Number of Respondents: 243.

Estimated Number of Responses: 243.

Annual Estimated Total Annual Burden Hours: 3,281.

Frequency of Response: Annually.

(Authority: The Paperwork Reduction Act of 1995; 44 U.S.C. chapter 35, as amended; and 49 CFR 1.49.)

* * * * *

By Order of the Maritime Administrator.
T. Mitchell Hudson, Jr.,
Secretary, Maritime Administration.

[FR Doc. 2023-03027 Filed 2-10-23; 8:45 am]

BILLING CODE 4910-81-P